DEPARTMENT OF HEALTH AND HUMAN SERVICES

Administration for Children and Families

President's Committee for People With Intellectual Disabilities; Notice of Meeting

AGENCY: President's Committee for People with Intellectual Disabilities (PCPID), Administration for Children and Families, HHS.

ACTION: Notice of quarterly meeting.

DATES: Thursday, September 6, 2007, from 9 a.m.-5 p.m. EST, and Friday, September 7, 2007, from 9 a.m.-2 p.m. EST. The meeting will be open to the public.

ADDRESSES: The meeting will be held in Room 800 of the Hubert H. Humphrey Building, 200 Independence Ave., SW., Washington, DC 20201. Individuals who will need accommodations for a disability in order to attend the meeting (e.g., sign language interpreting services, assistive listening devices, materials in alternative format such as large print or Braille) should notify MJ Karimi via e-mail at Madjid.KarimieAsl@ACF.hhs.gov, or via telephone at 202-619-0634 no later than August 24, 2007. PCPID will attempt to meet requests made after that date, but cannot guarantee availability. All meeting sites are barrier free.

Meeting Registration: The meeting is open to the public, but attendance is limited to the space available. Persons wishing to attend this meeting must register by contacting MJ Karimi at the e-mail address or telephone number listed in the ADDRESSES section of this notice by 12 p.m. EST on September 5, 2007. For those unable to participate in person, audio of the proceedings may be accessed via telephone. Please use the above contact information for MJ Karimi to obtain telephone and passcode information.

Agenda: PCPID will meet to discuss the 2007 Report to the President. They will also discuss possible content areas for the 2008 Report to the President and will divide into subcommittees for that purpose.

FOR FURTHER INFORMATION CONTACT: Sally D. Atwater, Executive Director, President's Committee for People with Intellectual Disabilities, The Aerospace Center, Suite 210, 370 L'Enfant Promenade, SW., Washington, DC 20447. Telephone: 202-619-0634, fax: 202-205-9591. E-mail: satwater@acf.hhs.gov.

SUPPLEMENTARY INFORMATION: PCPID acts in an advisory capacity to the President and the Secretary of Health and Human Services on a broad range of topics relating to programs, services and supports for persons with intellectual disabilities. PCPID, by Executive Order, is responsible for evaluating the adequacy of current practices in programs, services and supports for persons with intellectual disabilities, and for reviewing legislative proposals that impact the quality of life experienced by citizens with intellectual disabilities and their families.

Dated: August 1, 2007.
Sally D. Atwater,
Executive Director, President's Committee for People with Intellectual Disabilities.

[FR Doc. E7-15974 Filed 8-14-07; 8:45 am]

BILLING CODE 4184-01-P